DEPARTMENT OF HEALTH AND HUMAN SERVICES

National Institutes of Health

National Institute of Diabetes and Digestive and Kidney Diseases; Notice of Meeting

Pursuant to section 1009 of the Federal Advisory Committee Act, as amended, notice is hereby given of a meeting of the National Diabetes and Digestive and Kidney Diseases Advisory Council.

The meeting will be open to the public as indicated below, with attendance limited to space available. Individuals who plan to attend and need special assistance, such as sign language interpretation or other reasonable accommodations, should notify the Contact Person listed below in advance of the meeting. The meeting can be accessed from the NIH Videocast at the following link: https://videocast.nih.gov/.

The meeting will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Diabetes and Digestive and Kidney Diseases Advisory Council.

Date: June 17, 2025.

Open: 3:00 p.m. to 3:30 p.m.

Agenda: Council Business.

Address: National Institutes of Health, Democracy II, National Institutes of Diabetes and Digestive and Kidney Diseases, 6707 Democracy Boulevard, Bethesda, MD 20892 (Virtual Meeting).

Break: 3:30 p.m.-3:45 p.m.

Closed: 3:45 p.m. to 4:15 p.m.

Agenda: Division of Diabetes, Endocrinology, & Metabolic Diseases Subcommittee to review and evaluate grant applications.

Address: National Institutes of Health, National Institute of Diabetes and Digestive and Kidney Diseases, 6707 Democracy Blvd., Room 7329, Bethesda, MD 20892 (Virtual Meeting).

Closed: 3:45 p.m. to 4:15 p.m.

Agenda: Division of Digestive Diseases & Nutrition Subcommittee to review and evaluate grant applications.

Address: National Institutes of Health, National Institute of Diabetes and Digestive and Kidney Diseases, 6707 Democracy Blvd., Room 7329, Bethesda, MD 20892 (Virtual Meeting).

Closed: 3:45 p.m. to 4:15 p.m.

Agenda: Division of Kidney, Urologic, & Hematologic Diseases Subcommittee to review and evaluate grant applications.

Address: National Institutes of Health, National Institute of Diabetes and Digestive and Kidney Diseases, 6707 Democracy Blvd., Room 7329, Bethesda, MD 20892 (Virtual Meeting).

Break: 4:15 p.m.-4:30 p.m.

Closed: 4:30 p.m. to 5:00 p.m.

Agenda: To review and evaluate grant applications.

Address: National Institutes of Health, Democracy II, National Institutes of Diabetes and Digestive and Kidney Diseases, 6707 Democracy Boulevard, Bethesda, MD 20892 (Virtual Meeting).

Contact Person: Karl F. Malik, Ph.D., Director Division of Extramural Activities, National Institutes of Diabetes and Digestive and Kidney Diseases, 6707 Democracy Blvd., Room 7329, MSC 5452, Bethesda, MD 20892, (301) 594-4757, malikk@niddk.nih.gov.

Information is also available on the Institute's/Center's home page: https://www.niddk.nih.gov/about-niddk/advisory-coordinating-committees/national-diabetes-digestive-kidney-diseases-advisory-council, where an agenda and any additional information for the meeting will be posted when available.

(Catalogue of Federal Domestic Assistance Program Nos. 93.847, Diabetes, Endocrinology and Metabolic Research; 93.848, Digestive Diseases and Nutrition Research; 93.849, Kidney Diseases, Urology and Hematology Research, National Institutes of Health, HHS)

Dated: May 13, 2025.
Bruce A. George,
Program Analyst, Office of Federal Advisory Committee Policy.

[FR Doc. 2025-08751 Filed 5-15-25; 8:45 am]

BILLING CODE 4140-01-P